Title 3—

The President

Executive Order 14051 of October 31, 2021

Designation To Exercise Authority Over the National Defense Stockpile

By the authority vested in me as President by the Constitution and the laws of the United States of America, including the Strategic and Critical Materials Stock Piling Act, as amended (50 U.S.C. 98 et seq.), section 1413 of the National Defense Authorization Act for Fiscal Year 2013 (Public Law 112-239), and section 301 of title 3, United States Code, it is hereby ordered as follows:

Section 1. Policy and Purpose. The United States needs resilient, diverse, and secure supply chains to ensure our economic prosperity, national security, and national competitiveness. In Executive Order 14017 of February 24, 2021 (America's Supply Chains), I directed a comprehensive review of America's supply chains to ensure that they are resilient in the face of a range of risks. One critical component of safeguarding supply chain resilience and industrial base health is ensuring that both the Federal Government and the private sector maintain adequate quantities of supplies, equipment, or raw materials on hand to create a buffer against potential shortages and import dependencies. Some of the Federal Government's key tools to maintain adequate quantities of supplies to guard against such shortages and dependencies are the United States national stockpiles, including the National Defense Stockpile. By strengthening the National Defense Stockpile, the Federal Government will both ensure that it is keeping adequate quantities of goods on hand and provide a model for the private sector, while recognizing that private sector stockpiles and reserves can differ from government ones. This order confers authority related to the release of strategic and critical materials from the National Defense Stockpile to improve Federal Government efforts around stockpiling for national defense purposes.

Sec. 2. Designation. In accordance with section 98f of title 50, United States Code, the Under Secretary of Defense for Acquisition and Sustainment (Under Secretary) is designated to have authority to release strategic and critical materials from the National Defense Stockpile.

Sec. 3. Execution and Consultation. In executing the authority conferred by this order, the Under Secretary may release strategic and critical materials from the National Defense Stockpile for use, sale, or other disposition only when required for use, manufacture, or production for purposes of national defense. No release is authorized for economic or budgetary purposes. Prior to ordering the release of strategic and critical materials from the National Defense Stockpile, the Under Secretary shall consult with the heads of relevant executive departments and agencies.

Sec. 4. Authority. (a) All previously issued orders, regulations, rulings, certificates, directives, and other actions relating to any function affected by this order shall remain in effect except to the extent that they are inconsistent with this order or are subsequently amended or revoked under proper authority. Nothing in this order shall affect the validity or force of anything done under previous delegations or another assignment of authority under the Strategic and Critical Materials Stock Piling Act.

(b) Nothing in this order shall affect the authorities assigned under Executive Order 13603 of March 16, 2012 (National Defense Resources Preparedness).

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

October 31, 2021.

[FR Doc. 2021-24183

Filed 11-2-21; 11:15 am]

Billing code 3395-F2-P